DEPARTMENT OF COMMERCE

Foreign-Trade Zones Board

[B-19-2021]

Foreign-Trade Zone (FTZ) 59—Lincoln, Nebraska; Notification of Proposed Production Activity; Zoetis Services, LLC; (Pharmaceutical Products); Lincoln, Nebraska

Zoetis Services, LLC (Zoetis) submitted a notification of proposed production activity to the FTZ Board for its facility in Lincoln, Nebraska. The notification conforming to the requirements of the regulations of the FTZ Board (15 CFR 400.22) was received on March 2, 2021.

The Zoetis facility is located within Subzone 59E. The facility is used for the production of pharmaceuticals for the animal pharmaceutical industry. Pursuant to 15 CFR 400.14(b), FTZ activity would be limited to the specific foreign-status material and specific finished product described in the submitted notification (as described below) and subsequently authorized by the FTZ Board.

Production under FTZ procedures could exempt Zoetis from customs duty payments on the foreign-status components used in export production. On its domestic sales, for the foreign-status material noted below, Zoetis would be able to choose the duty rates during customs entry procedures that applies to Simparica® (Sarolaner) chewable tablets (duty-free). Zoetis would be able to avoid duty on foreign-status components which become scrap/waste. Customs duties also could possibly be deferred or reduced on foreign-status production equipment.

The material sourced from abroad is sarolaner spray dried dispersion (duty rate 6.5%).

Public comment is invited from interested parties. Submissions shall be addressed to the Board's Executive Secretary and sent to: ftz@trade.gov. The closing period for their receipt is April 26, 2021.

A copy of the notification will be available for public inspection in the “Reading Room” section of the Board's website, which is accessible via www.trade.gov/ftz.

For further information, contact Christopher Wedderburn at Chris.Wedderburn@trade.gov.

Dated: March 10, 2021.
Andrew McGilvray,
Executive Secretary.

[FR Doc. 2021-05398 Filed 3-15-21; 8:45 am]

BILLING CODE 3510-DS-P